DEPARTMENT OF HOMELAND SECURITY

Federal Emergency Management Agency

[Docket ID: FEMA-2020-0036; OMB No. 1660-0105]

Agency Information Collection Activities: Proposed Collection; Comment Request; National Disaster Preparedness Survey

AGENCY: Federal Emergency Management Agency, DHS.

ACTION: 60 day notice and request for comments.

SUMMARY: The Federal Emergency Management Agency, as part of its continuing effort to reduce paperwork and respondent burden, invites the general public to take this opportunity to comment on a revision of a currently approved information collection. In accordance with the Paperwork Reduction Act of 1995, this notice seeks comments concerning the charge to FEMA and DHS to meet FEMA strategic priorities, and FEMA's program management to improve the public's knowledge and actions for preparedness and resilience. Information from this collection will be used to track changes in knowledge, attitudes, and behaviors related to preparedness in the general public. The Individual and Community Preparedness Division analyzes and uses data collected in FEMA Form 008-0-15, National Disaster Preparedness Survey to identify progress and gaps in individual and community preparedness to better understand the motivators and barriers to preparedness in general and about specific hazards. The survey measures the public's knowledge, attitudes, and behaviors relative to preparing for a wide range of hazards.

DATES: Comments must be submitted on or before January 4, 2021.

ADDRESSES: Please submit comments at www.regulations.gov under Docket ID FEMA-2020-0036. Follow the instructions for submitting comments. All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Joseph Faulk, Preparedness Data Lead, Individual and Community Preparedness Division, joseph.faulk@fema.dhs.gov, 202-212-7723. You may contact the Information Management Division for copies of the proposed collection of information at email address: FEMA-Information-Collections-Management@fema.dhs.gov.

SUPPLEMENTARY INFORMATION: The Stafford Act, Title VI, Emergency Preparedness (42 U.S.C. 5195-5195(a)) identifies the purpose of emergency preparedness “for the protection of life and property in the United States from hazards.” It directs that the Federal Government “provide necessary direction, coordination, and guidance” as authorized for a comprehensive emergency preparedness system for all hazards. Emergency preparedness is defined as all “activities and measures designed or undertaken to prepare or minimize the effects of a hazard upon the civilian population. . .” The “conduct of research” is among the measures to be undertaken in preparation for hazards.

The DHS Strategic Plan 2020-2024 includes Goal 5, to “strengthen preparedness and resiliency.” The first objective of this goal is to “build a national culture of preparedness” with a sub-objective to “improve awareness initiatives to encourage public action to increase preparedness.

Similarly, in FEMA's Strategic Plan 2018-2022, Strategic Goal 1 is to “build a culture of preparedness” with objective 1.3 to “help people prepare for disasters.” The performance measures for objective 1.3 include increasing the percentage of people with savings set aside for an emergency and increasing the percentage of people who have taken preparedness actions.

Presidential Policy Directive-8 (PPD-8) directs the Secretary of Homeland Security to “coordinate a comprehensive campaign to build and sustain national preparedness, including public outreach and community-based and private sector programs to enhance national resilience, the provision of Federal financial assistance, preparedness efforts by the Federal Government, and national research and development efforts.”

In response to FEMA's responsibilities above, the information from this collection will be used to track changes in knowledge, attitudes, and behaviors related to preparedness in the general public.

Collection of Information

Title: National Disaster Preparedness Survey.

Type of Information Collection: Revision of a currently approved information collection.

OMB Number: 1660-0105.

FEMA Forms: FEMA Form 008-0-15.

Abstract: In accordance with the Paperwork Reduction Act of 1995, this collection assists FEMA's Individual and Community Preparedness Division to identify progress and gaps in citizen and community preparedness.

Affected Public: Individuals or Households.

Estimated Number of Respondents: 7,000.

Estimated Number of Responses: 7,000.

Estimated Total Annual Burden Hours: 1,250.

Estimated Total Annual Respondent Cost: $46,938.

Estimated Respondents' Operation and Maintenance Costs: There are no respondents' Operation and Maintenance costs associated with this information collection.

Estimated Respondents' Capital and Start-Up Costs: There are no recordkeeping, capital and start-up costs associated with this information collection.

Estimated Total Annual Cost to the Federal Government: $281,200.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-24605 Filed 11-4-20; 8:45 am]

BILLING CODE 9111-27-P